DEPARTMENT OF THE INTERIOR

Bureau of Land Management

[AZAR 05427]

Public Land Order No. 7627; Partial Revocation of Public Land Order No. 1229; Arizona

AGENCY: Bureau of Land Management, Interior.

ACTION: Public Land Order.

SUMMARY: This order partially revokes a public land order insofar as it affects approximately 340 acres of National Forest System land withdrawn for campgrounds, recreation areas, and other public purposes.

DATES: Effective Date: April 4, 2005.

FOR FURTHER INFORMATION CONTACT: Cliff Yardley, BLM Arizona State Office, 222 North Central Avenue, Phoenix, Arizona 85004-2203, 602-417-9437.

SUPPLEMENTARY INFORMATION: The land is located within an overlapping withdrawal for a Forest Service roadside zone, so the partial revocation is a record-clearing action only.

Order

By virtue of the authority vested in the Secretary of the Interior by Section 204 of the Federal Land Policy and Management Act of 1976, 43 U.S.C. 1714 (2000), it is ordered as follows:

Public Land Order No. 1229, which withdrew National Forest System land for campgrounds, recreation areas, and other public purposes, is hereby revoked insofar as it affects the following described land:

Tonto National Forest

Gila and Salt River Meridian

A strip of land 200 feet on each side of the centerline of Federal Highway 9-K through the following subdivisions:

T. 9 N., R. 10 E.,

sec. 3, lots 3 and 4, and S½NW¼ (formally described NW¼);

sec. 4, lots 1 to 4, inclusive, and S½N½ (formally described N½);

sec. 5, lots 1 and 2, S½NE¼, and SE¼ (formally described E½);

sec. 8, N½ and SW¼.

T. 10 N., R. 10 E.,

sec. 28, NE¼ and S½;

sec. 33, NW¼ and S½;

sec. 34, SW¼.

The area described contains approximately 340 acres in Gila County.

Dated: February 11, 2005.
Rebecca W. Watson,
Assistant Secretary—Land and Minerals Management.

[FR Doc. 05-4148 Filed 3-2-05; 8:45 am]

BILLING CODE 3410-11-P